DEPARTMENT OF DEFENSE

48 CFR Part 232

[DFARS Case 2000-D009]

Defense Federal Acquisition Regulation Supplement; Progress Payments for Foreign Military Sales Contracts

AGENCY: Department of Defense (DoD).

ACTION: Final rule.

SUMMARY: The Director of Defense Procurement has issued a final rule amending the Defense Federal Acquisition Regulation Supplement (DFARS) to clarify that DoD applies progress payments to contracts containing foreign military sales (FMS) requirements in the same manner that it applies progress payments to contracts containing DoD requirements.

EFFECTIVE DATE: June 27, 2000.

FOR FURTHER INFORMATION CONTACT: Ms. Sandra Haberlin, Defense Acquisition Regulations Council, OUSD (AT&L) DP (DAR), IMD 3D139, 3062 Defense Pentagon, Washington, DC 20301-3062. Telephone (703) 602-0289; telefax (703) 602-0350. Please cite DFARS Case 2000-D009.

SUPPLEMENTARY INFORMATION:

A. Background

This final rule amends DFARS Subpart 232.5, Progress Payments Based on Costs, to clarify that the application of customary progress payments is the same for both DoD and FMS contract requirements. The rule also makes editorial changes to update and simplify the text.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D009.

C. Paperwork Reduction Act

The Paperwork Reduction Act does not apply because the rule does not impose any information collection requirements that require the approval of the Office of Management and Budget under 44 U.S.C. 3501, et seq.

List of Subjects in 48 CFR Part 232

Government procurement.

Michele P. Peterson,
Executive Editor, Defense Acquisition Regulations Council.

Therefore, 48 CFR Part 232 is amended as follows:

1. The authority citation for 48 CFR Part 232 continues to read as follows:

Authority: 41 U.S.C. 421 and 48 CFR Chapter 1.

PART 232—CONTRACT FINANCING

2. Sections 232.501—1 and 232.501-2 are revised to read as follows:

232.501-1 Customary progress payment rates.

(a) The customary uniform progress payment rates for DoD contracts, including contracts that contain foreign military sales (FMS) requirements, are 75 percent for large businesses, 90 percent for small businesses, and 95 percent for small disadvantaged businesses.

232.501-2 Unusual progress payemnts.

(a) Unusual progress payment arrangmeents require the advance approval of the Director of Defense Procurment, Office of the Under Secretary of Defense (Acquisition, Technology, and Logistics) (OUSD (AT&L) DP). Contracting officers must submit all unusual progress payment requests to the department or agency contract financing office for approval, coordination with the Contract Finance Committee (see 232.071), and submission to OUSD (AT&L) DP.

232.501-3 [Amended]

3. Section 232.501-3 is amended in paragraph (b) introductory text in the second sentence by removing the word “shall” and adding in its place the word “must”.

232.502-1-70 [Removed]

4. Section 232.502-1-70 is removed.

5. Section 232.502-4-70 is amended by revising paragraph (a) to read as follows:

232.502-4-70 Additional clauses.

(a) Use the clause at 252.232-7002, Progress Payments for Foreign Military Sales Acquisitions, in solicitations and contracts that—

(i) Contain FMS requirements; and

(ii) Provide for progress payments.

* * * * *

232.503-6 [Amended]

6. Section 232.503-6 is amended in paragraph (g)(i) by removing the word “shall” and adding in its place the word “must”.

[FR Doc. 00-15817 Filed 6-26-00; 8:45 am]

BILLING CODE 5000-04-M